DEPARTMENT OF THE INTERIOR

National Park Service

[NPS-WASO-NRNHL-DTS#-33727; PPWOCRADI0, PCU00RP14.R50000]

National Register of Historic Places; Notification of Pending Nominations and Related Actions

AGENCY: National Park Service, Interior.

ACTION: Notice.

SUMMARY: The National Park Service is soliciting electronic comments on the significance of properties nominated before April 9, 2022, for listing or related actions in the National Register of Historic Places.

DATES: Comments should be submitted electronically by May 9, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 9, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Cleburne County

Martin Dipping Vat, (Dip That Tick: Texas Tick Fever Eradication in Arkansas MPS), Southeast of the intersection of Tiger B and Gills Rds., Concord vicinity, MP100007717

Drew County

Arkansas A&M College 4th District Faculty House, (New Deal Recovery Efforts in Arkansas MPS), 481 University Dr., Monticello, MP100007719

Bank of Tillar, 168 South Railroad St., Tillar, SG100007720

Mississippi County

Yarbro Overpass, US 61 over Union Pacific Railroad, Yarbro, SG100007721

Pulaski County

Froug, Abraham and Mollie, House, 1727 Center St., Little Rock, SG100007716

St. Francis County

Forrest City City Hall, (New Deal Recovery Efforts in Arkansas MPS), 224 North Rosser St., Forrest City, MP100007718

Washington County

Mount Sequoyah Historic District, 150 NW Skyline Dr., Fayetteville, SG100007722

KANSAS

Atchison County

Central School, (New Deal-Era Resources of Kansas MPS), 215 North 8th St., Atchison, MP100007702

Douglas County

Roberts-Luther-Mitchell House, (Lawrence, Kansas MPS), 1313 Massachusetts St., Lawrence, MP100007703

Elmwood Stock Farm Barn, (Agriculture-Related Resources of Kansas MPS), 571 East 1000 Rd., Baldwin City, MP100007704

Johnson County

Hammer, Louis & Rachel, Barn, (Agriculture-Related Resources of Kansas MPS), 33600 West 143rd St., Gardner, MP100007705

Leavenworth County

Greenwood Cemetery, Tonganoxie Rd. and Limit St., Leavenworth, SG100007706

Shawnee County

Brown, Shannon, House, 321 Lakeside Dr., Topeka, SG100007707

Wabaunsee County

Sump Barn, (Agriculture-Related Resources of Kansas MPS), 26603 K-99 Hwy., Alma, MP100007708

MICHIGAN

Oakland County

Webster, Elmer R., School, 640 West Huron St., Pontiac, SG100007710

OHIO

Summit County

Barberton Downtown Historic District, Roughly bounded by West Lake and West Tuscarawas Aves., 2nd St. NW, 1st St. NW, 3rd St. NW, 6th St. NW, and 8th St. NW, Barberton, SG100007724

TEXAS

Travis County

Chapel for the Children, 2203 West 35th St., Austin, SG100007709

WASHINGTON

San Juan County

Center School, (Rural Public Schools of Washington State MPS), 452 Richardson Rd., Lopez Island, MP100007711

A request for removal has been made for the following resource:

ARKANSAS

Garland County

Mayberry Springs, US 270, Crystal Springs vicinity, OT90001379

Additional documentation has been received for the following resource:

ARIZONA

Pima County

Blenman-Elm Historic District (Additional Documentation), 1248 North Norton Ave., Tucson, AD03000318

Nomination submitted by Federal Preservation Officer:

The State Historic Preservation Officer reviewed the following nomination and responded to the Federal Preservation Officer within 45 days of receipt of the nomination and supports listing the property in the National Register of Historic Places.

NEW YORK

Kings County

Brooklyn VA Hospital Historic District, (United States Third Generation Veterans Hospitals, 1946-1958 MPS), 800 Poly Pl., Brooklyn, MP100007725

Authority: Section 60.13 of 36 CFR part 60

Dated: April 12, 2022
Sherry A. Frear,
Chief, National Register of Historic Places/National Historic Landmarks Program.

[FR Doc. 2022-08620 Filed 4-21-22; 8:45 am]

BILLING CODE 4312-52-P